OFFICE OF THE DIRECTOR OF NATIONAL INTELLIGENCE

32 CFR Part 1700

Procedures for Disclosure of Records Pursuant to the Freedom of Information Act

Correction

In rule document 2023-15512, appearing on pages 48725 through 48731 in the issue of Friday, July 28, 2023, make the following correction:

§ 1700.9 Fees. [Corrected]

On page 48730, in the second column, on the eighteenth line, “manual searches for records” should read, “(b) With regard to manual searches for records”.

[FR Doc. C1-2023-15512 Filed 8-2-23; 8:45 am]

BILLING CODE 0099-10-D